MARINE MAMMAL COMMISSION

Notice of Public Meetings in Alaska

AGENCY: Marine Mammal Commission.

ACTION: Notice of public meetings.

SUMMARY: The Marine Mammal Commission (Commission) will hold a series of public meetings pursuant to the Government in the Sunshine Act and the Federal Advisory Committee Act in various locations in Alaska from February 3-February 11, 2016. This notice announces the date, time, and location of the public meetings.

DATES: Four public meetings will be held: February 3, 2016, 3 p.m.-5 p.m. (Barrow, AK); February, 5, 2016, 1 p.m.-5 p.m. (Kotzebue, AK); February 9, 2016, 3 p.m.-6 p.m. (Nome, AK); February 11, 2016, 8 a.m.-1 p.m. (Anchorage, AK).

ADDRESSES: The public meetings will be held at the following locations: February 3, 2016, Inupiat Heritage Center, 5421 North Star Street, Barrow, AK 99723; February 5, 2016, Northwest Arctic Borough Assembly Room, 163 Lagoon St, Kotzebue, AK 99752; February 9, 2016, University of Alaska Fairbanks Northwest Campus, 400 East Front Street, Nome, AK 99762, Main Building, Nagozruk Conference Room; February 11, 2016, Bureau of Ocean Energy Management, 3801 Centerpoint Drive, Anchorage, AK 99503. The Anchorage meeting will also be accessible via webinar. Information for accessing the webinar will be posted at www.mmc.gov at least one week before the Anchorage meeting.

FOR FURTHER INFORMATION CONTACT: Luis Leandro, Program Specialist, Marine Mammal Commission, 301-504-0087, Luis.Leandro@mmc.gov.

SUPPLEMENTARY INFORMATION: The Marine Mammal Commission (Commission) will meet in Barrow, Kotzebue, and Nome to solicit information from these communities and surrounding Native villages regarding environmental changes being observed in these areas, changes in the availability of marine mammals for subsistence and handicraft purposes, and Alaska Native concerns regarding marine mammal and related issues in general. All of these meetings will be open to the public.

Following these meetings, the Commission and its Committee of Scientific Advisors on Marine Mammals will meet in Anchorage, and via webinar, to review the information and views provided at the other public meetings and discuss possible actions by the Commission. This meeting will be open to attendance by the public. The public may also participate in the Anchorage meeting via webinar. The meeting will include an opportunity for comments by the public. Detailed information on how to access and participate in the webinar will be posted on the Commission's Web site (www.mmc.gov) at least one week in advance of the meeting.

These meetings are designed to further implementation of the Commission's Strategic Plan, which recognizes that the Arctic warrants special attention because its marine mammals, ecosystems, and marine mammal dependent coastal communities are being impacted profoundly by climate change. The Commission's focus on Alaska and the Arctic includes current work to promote effective consultation procedures between Alaska Native Tribes and federal agencies, efforts to improve understanding of the cumulative impacts of climate change and human activities on Arctic marine mammals, and engagement in domestic and international science and management programs for polar bears, walrus, ice seals, and beluga and bowhead whales.

A proposed agenda for the Anchorage meeting is posted on the Commission's Web site at www.mmc.gov, and may be subject to change based on the information provided by participants during the Barrow, Kotzebue, and Nome meetings.

Additional information about the Marine Mammal Commission, the Alaska meetings, and documents related to the Commission's consultations with Native communities can be found at www.mmc.gov.

Dated: January 11, 2016.
Rebecca J. Lent,
Executive Director.

[FR Doc. 2016-00692 Filed 1-14-16; 8:45 am]

BILLING CODE 6820-31-P